DEPARTMENT OF HEALTH AND HUMAN SERVICES

Centers for Disease Control and Prevention

Board of Scientific Counselors, National Center for Injury Prevention and Control, (BSC, NCIPC)

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control, (BSC, NCIPC). This meeting is open to the public limited only by the space and ports available. The meeting room accommodates 70 participants and there will be 125 ports available. Due to the limited accommodations by phone ports and room size, we are encouraging the public to please register using the link provided: Register Here. There will be public comment periods from 11:10 a.m.-11:40 a.m., on June 19, 2018, and from 11:30 a.m.-11:45 a.m., on June 20, 2018. All public comments will be limited to two-minutes per speaker.

DATES: The meeting will be held on June 19, 2018, 8:30 a.m.-5:15 p.m., EDT and June 20, 2018, 8:30 a.m.-12:15 p.m., EDT.

ADDRESSES: Center for Disease Control and Prevention, Chamblee Campus, 4770 Buford Highway, Building 107, Conference Room 1-A/B, Atlanta, Georgia 30341 and via Teleconference: Dial-In Number: 1-888-769-9404, Participant Code: 5536840. (U.S. & Canada Participants) 1-210-234-0065, Participant Code: 5536840 (International Participants).

FOR FURTHER INFORMATION CONTACT: Gwendolyn H. Cattledge, Ph.D., M.S.E.H., Deputy Associate Director for Science, NCIPC, CDC, 4770 Buford Highway NE, Mailstop F-63, Atlanta, GA 30341, Telephone (770) 488-1430, Email address: NCIPCBSC@cdc.gov.

SUPPLEMENTARY INFORMATION:

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters To Be Considered: Day One: The agenda will include discussions on Methodologies for Estimating Rates of Opioid Prescribing; a request and BSC vote to establish a workgroup to estimate, or provide reference points for, opioid prescribing for acute and chronic pain; the Center's focus on science matters to include research strategies needed to guide the Center's focus on reducing opioid overdose; and CDC and NIH research to reduce opioid overdose. Public comments on the formation of the Opioid Prescribing Estimates workgroup must be made during the comment period on June 19, 2018, 11:10 a.m.-11:40 a.m. to be considered before the BSC vote. Day Two: The agenda will include discussions on reducing youth violence through CDC's National Centers of Excellence in Youth Violence Prevention, and discuss improvements to Web-based Injury Statistics Query and Reporting System (WISQARS) data visualization. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2018-10224 Filed 5-11-18; 8:45 am]

BILLING CODE 4163-18-P